DEPARTMENT OF ENERGY

Federal Energy Regulatory Commission

[Docket No. RP98-206-009]

Atlanta Gas Light Company; Notice of Compliance Filing

August 23, 2002.

Take notice that on August 19, 2002, Atlanta Gas Light Company (Atlanta), in compliance with the Commission's July 18, 2002 Order in the above-referenced proceeding, tendered for filing its previously effective Rate Schedule IBSS, along with all related provisions of the Terms of Service of its limited jurisdiction FERC tariff. Atlanta requested an effective date for the tariff sheets of September 1, 2002.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For Assistance, call (202)502-8222 or for TTY, (202) 208-1659. The Commission strongly encourages electronic filings. See, 18 CFR 385.2001(a)(1)(iii) and the instructions on the Commission's Web site under the “e-Filing” link.

Linwood A. Watson, Jr.,
Deputy Secretary.

[FR Doc. 02-22032 Filed 8-28-02; 8:45 am]

BILLING CODE 6717-01-P